DEPARTMENT OF HEALTH AND HUMAN SERVICES

Indian Health Service

Indians Into Psychology Program; Correction

AGENCY: Indian Health Service, HHS.

ACTION: Notice correction.

SUMMARY: The Indian Health Service published a document in the Federal Register on June 25, 2010, announcing a Funding Opportunity Number: HHS-IHS-2010-INPSY-0001, for the Indians Into Psychology Program. The document contained an incorrect Funding Opportunity Number.

FOR FURTHER INFORMATION CONTACT: Mr. Michael Berryhill, Office of Public Health Support, Division of Health Professions Support, 801 Thompson Avenue, TMP Suite 450A, Rockville, MD 20852, Telephone 301-443-2443.

Correction

In the Federal Register of June 25, 2010, in FR Doc. 2010-15423, on page 36414, in the second column, correct the “Funding Opportunity Number” caption to read:

Funding Opportunity Number: HHS-2010-IHS-INPSY-0001.

Dated: July 1, 2010.
Yvette Roubideaux,
Director of Indian Health Service.

[FR Doc. 2010-16742 Filed 7-9-10; 8:45 am]

BILLING CODE 4165-16-M